DEPARTMENT OF TRANSPORTATION

Federal Aviation Administration

14 CFR Part 39

[Docket No. FAA-2015-0083; Directorate Identifier 2014-NM-131-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200, A330-200 Freighter, and A330-300 series airplanes; and all A340-200 and A340-300 series airplanes. This proposed AD was prompted by reports that a bracket that attaches the cockpit instrument panel to the airplane structure, does not sustain the fatigue loads of the design service goal. This proposed AD would require repetitive inspections of that bracket for cracking and to determine if both lugs are fully broken, an inspection for cracking of an adjacent bracket, if necessary, and corrective actions if necessary. This AD would also provide an optional modification, which would terminate the repetitive inspections. We are proposing this AD to detect and correct cracking on a bracket of the cockpit instrument panel, which, combined with failure of the horizontal beam, could lead to collapse of the cockpit panel, and reduced controllability of the airplane.

DATES: We must receive comments on this proposed AD by March 30, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0083; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-0083; Directorate Identifier 2014-NM-131-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0127, dated May 15, 2014 (referred to after this as the Mandatory Continuing Airworthiness Information, or “the MCAI”), to correct an unsafe condition for certain Airbus Model A330-200, A330-200 Freighter, and A330-300 series airplanes; and all A340-200, and A340-300 series airplanes. The MCAI states:

During flight tests, high stress levels have been measured on the bracket No 6 which attaches the cockpit instrument panel to the aeroplane structure, apparently introduced through the nose landing gear due to bumps on the runway. Airbus determined that the bracket does not sustain the fatigue loads during the Design Service Goal (DSG). This condition, if not detected and corrected, combined with failure of the horizontal beam, could lead to collapse of the cockpit panel, possibly resulting in reduced control of the aeroplane.

To address this potential unsafe condition, Airbus developed a program to inspect the condition of the affected cockpit instrument panel bracket No 6, and designed a stronger (reinforced titanium undrilled) bracket. The new bracket can be installed in-service through Airbus Service Bulletin (SB) A330-25-3548 or SB A340-25-4354, as applicable to aeroplane type.

For the reasons described above, this [EASA] AD requires repetitive inspections of the cockpit instrument panel bracket No 6 and, depending on findings, the accomplishment of applicable corrective actions. This [EASA] AD also provides the installation of the stronger bracket as optional terminating action for the repetitive actions required by this [EASA] AD.

The corrective actions include replacing bracket No. 6 and bracket No. 7 with serviceable parts, and repair, as applicable.

You may examine the MCAI in the AD docket on the Internet at http://www.regulations.gov by searching for and locating Docket No. FAA-2015-0083.

Related Service Information Under 1 CFR Part 51

Airbus has issued the following service information.

• Airbus Service Bulletin A330-25-3538, Revision 02, dated April 24, 2014, which provides procedures for inspection of cockpit instrument panel bracket 6.

• Airbus Service Bulletin A330-25-3548, dated October 31, 2013, which provides procedures for reinforcement of cockpit instrument panel bracket 6.

• Airbus Service Bulletin A340-25-4351, Revision 01, dated January 31, 2014, which provides procedures for inspection of cockpit instrument panel bracket 6.

• Airbus Service Bulletin A340-25-4354, dated October 31, 2013, which provides procedures for reinforcement of cockpit instrument panel bracket 6.

The actions described in this service information are intended to correct the unsafe condition identified in the MCAI. This service information is reasonably available; see ADDRESSES for ways to access this service information.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of “RC” Procedures and Tests in Service Information

The FAA worked in conjunction with industry, under the Airworthiness Directives Implementation Aviation Rulemaking Committee (AD ARC), to enhance the AD system. One enhancement was a new process for annotating which procedures and tests in the service information are required for compliance with an AD. Differentiating these procedures and tests from other tasks in the service information is expected to improve an owner's/operator's understanding of crucial AD requirements and help provide consistent judgment in AD compliance. The actions specified in Airbus Service Bulletin A330-25-3538, Revision 02, dated April 24, 2014; and Airbus Service Bulletin A340-25-4351, Revision 01, dated January 31, 2014; include procedures and tests that are identified as RC (required for compliance) because these procedures have a direct effect on detecting, preventing, resolving, or eliminating an identified unsafe condition.

As specified in a NOTE under the Accomplishment Instructions of the specified service information, procedures and tests identified as RC must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in a serviceable condition. Any substitutions or changes to procedures or tests identified as RC will require approval of an AMOC.

Costs of Compliance

We estimate that this proposed AD affects 76 airplanes of U.S. registry.

We also estimate that it would take about 8 work-hours per product to comply with the basic requirements of this proposed AD. The average labor rate is $85 per work-hour. Based on these figures, we estimate the cost of this proposed AD on U.S. operators to be $51,680, or $680 per product.

We have received no definitive data that would enable us to provide cost estimates for the follow-on repairs specified in this AD.

In addition, we estimate that any necessary follow-on replacements would take about 23 work-hours and require parts costing $0, for a cost of $1,955 per product. We have no way of determining the number of aircraft that might need these actions.

We estimate that the optional modification would take about 9 work hours and require parts costing $1,770, for a cost of $2,535.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-0083; Directorate Identifier 2014-NM-131-AD.

(a) Comments Due Date

We must receive comments by March 30, 2015.

(b) Affected ADs

None.

(c) Applicability

This AD applies to the Airbus airplanes identified in paragraphs (c)(1) and (c)(2) of this AD, certificated in any category.

(1) Model A330-201, -202, -203, -223, -243, -223F, -243F, -301, -302, -303, -321, -322, -323, -341, -342, and -313 airplanes, all manufacturer serial numbers except those on which Airbus Modification 203287 has been embodied in production.

(2) Model A340-211, -212, -213, -311, -312, and -313 airplanes, all manufacturer serial numbers.

(d) Subject

Air Transport Association (ATA) of America Code 25, Equipment/Furnishings.

(e) Reason

This AD was prompted by reports that a bracket that attaches the cockpit instrument panel to the airplane structure, does not sustain the fatigue loads of the design service goal. We are issuing this AD to detect and correct cracking on a bracket of the cockpit instrument panel, which, combined with failure of the horizontal beam, could lead to collapse of the cockpit panel, and reduced controllability of the airplane.

(f) Compliance

Comply with this AD within the compliance times specified, unless already done.

(g) Inspection of Bracket No. 6 of the Cockpit Instrument Panel

At the latest of the times specified in paragraphs (g)(1), (g)(2), and (g)(3) of this AD: Do a detailed inspection of bracket No. 6 of the cockpit instrument panel for cracking and to determine if both bracket lugs are fully broken, in accordance with the Accomplishment Instructions of Airbus Service Bulletin A330-25-3538, Revision 02, dated April 24, 2014; or Airbus Service Bulletin A340-25-4351, Revision 01, dated January 31, 2014; as applicable. Repeat the inspection thereafter at intervals not to exceed 2,600 flight cycles.

(1) Prior to accumulating 17,200 total flight cycles since the airplane's first flight.

(2) Prior to bracket No. 6 of the cockpit instrument panel accumulating 17,200 total flight cycles since installation on an airplane.

(3) Within 500 flight cycles after the effective date of this AD.

(h) Inspection and Corrective Actions

(1) If, during any inspection required by paragraph (g) of this AD, any cracking of bracket No. 6 of the cockpit instrument panel is found, but both bracket lugs are not fully broken: Within 2,600 flight cycles after that inspection, replace bracket No. 6 of the cockpit instrument panel with a serviceable part, in accordance with the Accomplishment Instructions of Airbus Service Bulletin A330-25-3538, Revision 02, dated April 24, 2014; or Airbus Service Bulletin A340-25-4351, Revision 01, dated January 31, 2014; as applicable. Replacement of bracket No. 6 of the cockpit instrument panel does not constitute terminating action for the repetitive inspections required by paragraph (g) of this AD.

(2) If, during any inspection required by paragraph (g) of this AD, any cracking of bracket No. 6 of the cockpit instrument panel is found and both bracket lugs are fully broken: Before further flight, do a detailed inspection of bracket No. 7 of the cockpit instrument panel for cracking, in accordance with the Accomplishment Instructions of Airbus Service Bulletin A330-25-3538, Revision 02, dated April 24, 2014; or Airbus Service Bulletin A340-25-4351, Revision 01, dated January 31, 2014; as applicable.

(i) If, during the inspection required by paragraph (h)(2) of this AD, no cracking is found in bracket No. 7 of the cockpit instrument panel: Before further flight, replace bracket No. 6 and bracket No. 7 of the cockpit instrument panel with serviceable parts, in accordance with the Accomplishment Instructions of Airbus Service Bulletin A330-25-3538, Revision 02, dated April 24, 2014; or Airbus Service Bulletin A340-25-4351, Revision 01, dated January 31, 2014; as applicable. Replacement of bracket No. 6 of the cockpit instrument panel does not constitute terminating action for the repetitive inspections required by paragraph (g) of this AD.

(ii) If, during the inspection required by paragraph (h)(2) of this AD, any cracking is found in bracket No. 7 of the cockpit instrument panel: Although Airbus Service Bulletin A330-25-3538, Revision 02, dated April 24, 2014; and Airbus Service Bulletin A340-25-4351, Revision 01, dated January 31, 2014; specify to contact Airbus for repair instructions, and specify that action as “RC” (Required for Compliance), repair the cracking before further flight using a repair method approved by the Manager, International Branch, ANM-116, Transport Airplane Directorate, FAA; or the European Aviation Safety Agency (EASA); or Airbus's EASA Design Organization Approval (DOA).

(i) Optional Terminating Modification for Paragraph (g) of This AD

Modifying an airplane by replacing bracket No. 6 of the cockpit instrument panel with a new, reinforced bracket, in accordance with the Accomplishment Instructions of Airbus Service Bulletin A330-25-3548, dated October 31, 2013; or Airbus Service Bulletin A340-25-4354, dated October 31, 2013; as applicable; terminates the repetitive inspections required by paragraph (g) of this AD.

(j) Credit for Previous Actions

This paragraph provides credit for actions required by paragraphs (g) and (h) of this AD, if those actions were performed before the effective date of this AD using the service information identified in paragraph (j)(1), (j)(2), or (j)(3) of this AD, which are not incorporated by reference in this AD.

(1) Airbus Service Bulletin A330-25-3538, dated September 10, 2013.

(2) Airbus Service Bulletin A330-25-3538, Revision 01, dated April 24, 2014.

(3) Airbus Service Bulletin A340-25-4351, dated September 10, 2014.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): Except as required by paragraph (h)(2)(ii) of this AD, if Airbus Service Bulletin A330-25-3538, Revision 02, dated April 24, 2014; or Airbus Service Bulletin A340-25-4351, Revision 01, dated January 31, 2014; contain procedures or tests that are identified as RC, those procedures and tests must be done to comply with this AD; any procedures and tests that are not identified as RC are recommended. Those procedures and tests that are not identified as RC may be deviated from, using accepted methods in accordance with the operators maintenance or inspection program without obtaining approval of an AMOC, provided the procedures and tests identified as RC can be done and the airplane can be put back in a serviceable condition. Any substitutions or changes to procedures or tests identified as RC require approval of an AMOC.

(l) Related Information

(1) Refer to Mandatory Continuing Airworthiness Information (MCAI) EASA Airworthiness Directive 2014-0127, dated May 15, 2014, for related information. This MCAI may be found in the AD docket on the Internet at http://www.regulations.gov by searching for and locating Docket No. FAA-2015-0083.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on January 30, 2015.
Jeffrey E. Duven,
Manager, Transport Airplane Directorate, Aircraft Certification Service.

[FR Doc. 2015-02536 Filed 2-12-15; 8:45 am]

BILLING CODE 4910-13-P